DEPARTMENT OF THE INTERIOR

Bureau of Land Management

[UT-080-2003-0369V]

Notice of Availability of a Final Environmental Impact Statement for the Greater Deadman Bench Region, Uintah County, UT

AGENCY: Bureau of Land Management, Interior.

ACTION: Notice of availability.

SUMMARY: In accordance with the National Environmental Policy Act of 1969 (NEPA) (42 U.S.C. 4321 et seq.) and the Federal Land Policy and Management Act of 1976 (FLPMA) (43 U.S.C. 1701 et seq.), the Bureau of Land Management (BLM) has prepared a Final Environmental Impact Statement (FEIS) for the Greater Deadman Bench Region, Uintah County, Utah.

DATES: The 30-day public availability period will begin on the date the Environmental Protection Agency (EPA) publishes its Notice of Availability (NOA) in the Federal Register. To assure that public comments will be considered, the BLM must receive written comments on the FEIS on or before the end of the comment period at the address listed below.

FOR FURTHER INFORMATION CONTACT: Stephanie Howard, Project Manager, BLM Vernal Field Office, 170 South 500 East, Vernal, UT 84078. Ms. Howard may also be reached at 435-781-4400.

ADDRESSES: Comments on the FEIS may be submitted by any of the following methods:

• Mail: Bureau of Land Management, Vernal Field Office, 170 South 500 East, Vernal, Utah 84078.

• E-mail: UT_Vernal_Comments@blm.gov.

• Fax: (435) 781-4480.

Please reference the QEP GDBR when submitting your comments. Comments and information submitted on the FEIS for the Greater Deadman Bench Region, Uintah County, Utah, including names, e-mail addresses, and street addresses of respondents, will be available for public review at the Vernal Field Office address listed above. The BLM will not accept anonymous comments. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

SUPPLEMENTARY INFORMATION: The Greater Deadman Bench Region involves approximately 98,785 acres located in Townships 6-8 South, Ranges 21-25 East, Salt Lake Base Meridian, about 20 miles south of Vernal, in Uintah County, Utah.

Approximately 83,860 acres (85%) of surface and mineral estate are administered by the BLM; approximately 11,440 acres (12%) are administered by the State of Utah's School and Institutional Trust Lands Administration (SITLA); and the remaining 3,470 acres (4%) consist of various privately owned surface and mineral estate lands.

The Greater Deadman Bench Region encompasses an already developed oil and gas field. At the time of the initiation of the EIS process (in 2003), the Greater Deadman Bench Region contained approximately 278 existing oil or water-injection wells, and 300 gas wells. Also, about 57 miles of primary roads and 314 miles of secondary roads have been constructed within the region.

A Notice of Intent (NOI) to prepare the EIS was published in the Federal Register on December 19, 2003, which announced the beginning of the scoping period. Eleven scoping letters were received from agencies, organizations, and individuals during the scoping period. The scoping comments were taken into account during the drafting of the EIS. A summary of the scoping comments can be found in section 1.6 of the FEIS.

A NOA for the Draft EIS was published in the Federal Register on February 10, 2006. During the public comment period seven comment letters were received from various agencies and organizations. Comments received on the Draft EIS, and the responses to those comments, are found in Chapter 6 of the FEIS.

The FEIS analyzes the effects of a natural gas and oil development scenario within the Greater Deadman Bench Region that is conceptual in nature. The final location of well pads, roads, and pipelines would be determined through future site-specific assessments required for each facility. Questar Exploration Production (QEP) proposes to drill 1,239 wells at the rate of 100-120 wells per year over a period of 10 years, or until the resource base is fully developed. Of this total number, 891 wells would be drilled at new locations and 348 wells would be drilled from existing well pads. Any additional environmental analyses will tier to this EIS.

The FEIS analyzes the impacts of the Proposed Action and the No Action Alternative. The following is a summary of the alternatives:

Alternative A—Proposed Action (BLM's preferred alternative): Up to 1,020 natural gas and 219 oil wells would be drilled. About 170 miles of new roads and 235 miles of pipelines, 31 miles of power lines, 22 new central tank facilities and 15 new gas compressor stations would be constructed to support this proposed development. In all, approximately 4,561 acres, or 5% of the total project area, would be disturbed by the proposal. The Proposed Action incorporates standard operating procedures and applicant-committed best management practices currently employed on BLM-administered public lands in the Uinta Basin that mitigate impacts to the environment.

Alternative B—No Action: Oil and gas development on Federal lands under Alternative A would not be implemented. However some level of development would continue to occur under Applications for Permits to Drill (APDs) previously approved by the BLM based upon other NEPA documents. An additional 130 wells would be located on land managed by the State of Utah and private leases.

Eight additional alternatives were considered but eliminated from detailed analysis. These alternatives included: No development, suspension of operations, exchange of leases, full-field directional drilling, conventional oil and gas plan development, Best Management Practices (BMP), phased development, and minimum setback distances. These alternatives were eliminated from detailed analysis because of technical or economical reasons, because of their resource impact, or because they did not meet the purpose and need of BLM's proposed action.

Copies of the FEIS for the Greater Deadman Bench Region have been sent to Federal, State, and local government agencies, and to parties who commented during the public comment period.

Howard Cleavinger,
Acting Field Office Manager.

[FR Doc. E7-25578 Filed 1-3-08; 8:45 am]

BILLING CODE 4310-DQ-P